ENVIRONMENTAL PROTECTION AGENCY

40 CFR Part 52

[EPA-R02-OAR-2023-0237; FRL 11904-01-R2]

Approval of Source-Specific Air Quality Implementation Plan; New York; Sylvamo Ticonderoga Mill

AGENCY: Environmental Protection Agency.

ACTION: Proposed rule.

SUMMARY: The Environmental Protection Agency (EPA) is proposing to approve a revision to the State of New York's State Implementation Plan (SIP) for the ozone National Ambient Air Quality Standard (NAAQS) related to a Source-specific SIP (SSSIP) revision for the Sylvamo Ticonderoga Mill (formerly known as International Paper), located at 568 Shore Airport Rd., Ticonderoga, New York (the Facility). The EPA is proposing to find that the control options in this SSSIP revision implement Reasonably Available Control Technology (RACT) with respect to nitrogen oxide (NOX) emissions from the relevant Facility sources, which are identified as one power boiler, one lime kiln, and one recovery furnace. This SSSIP revision is intended to implement NOX RACT for the relevant Facility sources in accordance with the requirements for implementation of the 2008 and 2015 ozone NAAQS. This proposed action will not interfere with ozone NAAQS requirements and meets all applicable requirements of the Clean Air Act (CAA).

DATES: Comments must be received on or before June 24, 2024.

ADDRESSES: Submit your comments, identified by Docket Number EPA-R02-OAR-2023-0237, at https://www.regulations.gov. Although listed in the index, some information is not publicly available, e.g., Confidential Business Information (CBI) or other information whose disclosure is restricted by statute. Certain other material, such as copyrighted material, is not placed on the internet and will be publicly available only in hard copy form. Publicly available docket materials are available electronically through https://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, such as the full EPA public comment policy, information about CBI or multimedia submissions, and general guidance on making effective comments, please visit https://www.epa.gov/dockets/commenting-epa-dockets.

FOR FURTHER INFORMATION CONTACT: Stephanie Lin, Air Programs Branch, Environmental Protection Agency, Region 2 Office, 290 Broadway, 25th Floor, New York, New York 10007-1866, 212-637-3711, or by email at lin.stephanie@epa.gov.

SUPPLEMENTARY INFORMATION: For additional information on regulatory background and the EPA's technical findings relating to the Facility RACT, the reader can refer to the Technical Support Document (TSD) that is contained in the EPA docket assigned to this Federal Register document.

Table of Contents

I. Background

II. The EPA's Evaluation of New York's Submission

III. Environmental Justice Considerations

IV. Proposed Action

V. Incorporation by Reference

VI. Statutory and Executive Order Reviews

I. Background

Ground Level Ozone Formation

Ground level ozone is predominantly a secondary air pollutant created by chemical reactions that occur when ozone precursors, including nitrogen oxides (NOX) and volatile organic compounds (VOCs), chemically react in the presence of sunlight.¹ Emissions from industrial facilities are anthropogenic sources of ozone precursors. The potential for ground-level ozone formation tends to be highest during months with warmer temperatures and stagnant air masses. Ozone levels are thus generally higher during the summer months, which is often referred to as “the ozone season.” In New York, the ozone season is generally considered to be between April 15 and October 15, while the non-ozone season is generally considered to be between October 16 and April 14.

¹ Primary standards provide public health protection, including protecting the health of “sensitive” populations such as asthmatics, children, and the elderly. Secondary standards provide public welfare protection, including protection against decreased visibility and damage to animals, crops, vegetation, and buildings.

Ozone Nonattainment

A geographic area of the United States that is not meeting the primary or secondary National Ambient Air Quality Standard (NAAQS) for ozone is described as a nonattainment area. Nonattainment areas are classified as either Marginal, Moderate, Serious, Severe, or Extreme. With respect to this proposed action, there are two relevant ozone NAAQS standards. First, on March 12, 2008, the EPA promulgated a revision to the ozone NAAQS, setting both the primary and secondary standards at 0.075 parts per million (ppm) averaged over an 8-hour time frame (2008 8-hour Ozone Standard). See 73 FR 16436 (March 27, 2008). Second, on October 1, 2015, the EPA lowered these standards to 0.070 ppm averaged over an 8-hour time frame (2015 8-hour Ozone Standard). See 80 FR 65292 (October 26, 2015).

The State of New York has two ozone nonattainment areas: (1) Jamestown, and (2) the New York Metro Area,² consisting of the Bronx County, Kings County, Nassau County, New York County, Queens County, Richmond County, Rockland County, Suffolk County, Westchester County. Under CAA section 184, the State of New York is located within the Ozone Transport Region (OTR), which means that it is subject to statewide RACT requirements. This Facility is not located in an ozone nonattainment area, but it is still required to implement RACT because it is located within the OTR.

² The New York Metro Area is part of the greater nonattainment area New York-N New Jersey-Long Island, NY-NJ-CT.

Federal RACT Requirements

RACT is defined as the lowest emission limit that a source is capable of meeting through the application of control technology that is reasonably available considering technological and economic feasibility. The CAA section 182, Plan Submissions and Requirements, requires States with ozone nonattainment areas to include in their statewide SIPs, among other things, provisions to require the implementation of RACT. CAA section 176A sets forth the requirement to establish control measures to implement RACT for major sources of NOX located in the OTR. The State of New York is located within the OTR, and thus the State is required to implement RACT for all major sources of NOX within the State. RACT for a particular source is determined on a case-by-case basis, considering the technological and economic circumstances of the individual source.

NYSDEC RACT Requirements

The New York State Department of Environmental Conservation (NYSDEC) RACT regulations require applicable facilities to meet certain requirements, referred to as “presumptive RACT requirements.” These presumptive requirements generally require sources to implement emission limits, control efficiency requirements, specific control technologies, averaging plans, and/or fuel/raw material switching practices. In some instances, the presumptive RACT requirements may not be technologically or economically feasible for a certain source, and the State can make a Source-specific RACT determination, which is submitted to the EPA as a SSSIP. The SSSIP should include the facility's RACT plan that demonstrates how the facility will implement RACT. The SSSIP will also include the applicable CAA title V operating permit conditions that address RACT requirements. These permit conditions for the Facility will become federally enforceable upon EPA approval of the SSSIP.

Under existing NYSDEC RACT regulations, facilities are required to assess all technologically feasible control options that meet the State's cost threshold. The cost threshold for NYSDEC RACT requirements is found under NYSDEC 2013 policy, “DAR-20 Economic and Technical Analysis for Reasonably Available Control Technology (RACT).” Under this policy, facilities must consider in their RACT determinations control technologies that remove NOX emissions up to a certain cost threshold, expressed in a dollar amount per ton of NOX removed, which includes an inflation-adjusted economic threshold.³

³ The DAR-20 cost threshold is based on 1994 dollars. State of New York relies on the U.S. Department of Labor, Bureau of Labor Statistics inflationary calculator to adjust the RACT economic feasibility threshold over time for inflation. See https://www.bls.gov/data/inflation_calculator.htm.

II. The EPA's Evaluation of New York's Revision

This action relates to a SSSIP revision that concerns the Facility which is a fully integrated pulp and paper manufacturer of printing papers. The Facility processes hardwood and softwood logs and chips using the kraft pulping process and produces approximately 900 tons per day of uncoated free sheet paper for commercial printing. Converted kraft pulp is washed, bleached, and prepared for finishing by two paper machines. The sources at issue in this action are the Facility's one power boiler, one lime kiln, and one recovery furnace. NYSDEC RACT regulations establish presumptive RACT requirements for these sources in (1) 6 NYCRR part 227, “Stationary Combustion Installations,” subpart 227-2, “Reasonably Available Control Technology for Major Facilities of Oxides of Nitrogen,” last approved by the EPA on July 12, 2013, see 78 FR 41846 (July 12, 2013); and (2) 6 NYCRR part 212, “Process Operations,” subpart 212-3, “Reasonably Available Control Technology for Major Facilities,” last approved by the EPA on October 1, 2021, see 87 FR 54375 (October 1, 2021). However, as explained above, the State regulations allow Source-specific RACT determinations if the presumptive RACT requirements are not technologically or economically feasible; such Source-specific determinations must be submitted to the EPA as a SSSIP.

This SSSIP was submitted by NYSDEC on November 23, 2022, and it replaces and supersedes the SSSIPs that were submitted by the State on September 16, 2008, and August 30, 2010. In this SSSIP submittal, the EPA has reviewed the RACT determination for the one power boiler, one lime kiln, and one recovery furnace for consistency with the CAA and the EPA regulations, as interpreted through EPA actions and guidance.

The intended effect of this Source-specific SIP revision is to establish: (1) A case-by-case emission limit and RACT control options for the power boiler due to its unique fuel mix; (2) an emission limit for the lime kiln that is not covered by other New York Source-specific RACT regulations, and therefore must follow 6 NYCRR part 212 as a process operation; ⁴ and (3) an emission limit for the recovery furnace that is not covered by other Source-specific New York RACT regulations, and therefore must follow 6 NYCRR part 212 as a process operation.

⁴ Under 6 NYCRR part 212, Definitions (18), `Process operation.' Any industrial, institutional, commercial, agricultural or other activity, operation, manufacture or treatment in which chemical, biological and/or physical properties of the material or materials are changed, or in which the material(s) is conveyed or stored without changing the material(s) if the conveyance or storage system is equipped with a vent(s) and is non-mobile, and that emits air contaminants to the outdoor atmosphere. A process operation does not include an open fire, operation of a combustion installation, or incineration of refuse other than by-products or wastes from a process operation(s).

The EPA is proposing to determine through this SSSIP action that the NOX emission limits submitted by the State in this SSSIP for the Facility's power boiler, lime kiln, and recovery furnace are the lowest emission limits with the application of control technology that are reasonably available given technological and economic feasibility considerations. These respective NOX RACT emission limits are contained in the Facility's title V operating permit, 5-1548-00008/00081, under Condition 52, Condition 78, and Condition 85. This operating permit was issued by the State on March 19, 2022, and expires on March 18, 2027. The Facility submitted a RACT analysis for these emission limits and NYSDEC reviewed and approved the emission limits as adequately implementing RACT for the sources. NYSDEC then submitted the Source-specific SIP revision package at issue in this action for EPA approval, and the EPA is proposing to approve the respective emission limits as implementing RACT for these sources. This would make the emission limits federally enforceable.

The following is a summary of EPA's analysis of how the proposed NOX emission limits implement RACT for the power boiler, lime kiln and recovery furnace.

Power Boiler, Permit Condition 52, Emission Unit P-OWERH

The Facility's power boiler, which has a rated fuel heat input capacity of 855 million British Thermal Units per hour (MMBtu/hr), supplies steam and electricity to the mill. Because the power boiler's fuel heat input capacity is greater than 250 MMBtu/hr, the power boiler is characterized as a “very large boiler” under 6 NYCRR 227-2.2. When a very large boiler uses fuel other than gas, gas/oil, pulverized coal, coal wet bottom, or coal dry bottom (fuels listed under subpart 227-2.4(a)(1)), then under subpart 227-2.4(a)(2), a RACT implementation proposal must include a proposed emission limit for the non-listed fuels.

The Facility's power boiler is a multi-fuel fired stoker boiler that burns No. 2 fuel oil, No. 6 fuel oil, waste fuel type “A,” wood/bark, rejected digester wood knots, primary clarifier fiber, dried secondary biomass, and natural gas. The natural gas is delivered to the Facility by truck as compressed natural gas (CNG). The power boiler is also used as a combustion/destruction device for the non-condensable gases produced in the pulping and chemical recovery processes. Non-condensable gases are gases that cannot be condensed under normal cooling conditions such that a temperature of −150°C is required to condense them. Because the Facility's power boiler is a multi-fuel, very large boiler that burns fuels that are not included in the listed fuel types, a case-by-case emission limit for the Facility's power boiler is required.

NYSDEC reviewed the RACT analysis and determined that the submitted emission limits implements RACT for the power boiler. Specifically, NYSDEC approved the following case-by-case emission limits: (1) 0.23 lb NOX/MMBtu per 24-hour average (0.22 lb NOX/MMBtu per 30-day rolling average) during the May 1 through September 30 ozone season; and (2) 0.23 lb NOX/MMBtu per 30-day rolling average during the October 1 through April 30 non-ozone season. For both limits, compliance is measured through a continuous emission monitoring system (CEMS). The CEMS satisfies the testing, monitoring, and reporting requirements under the federally approved 6 NYCRR subpart 227-2.6(a)(1). Under this section, any very large boiler must measure NOX emissions with a CEMS, or an equivalent monitoring system approved by NYSDEC.

EPA is proposing to determine that the proposed limit for the power boilers implement RACT because: (1) The Facility's power boiler is a multi-fuel very large boiler that burns fuel that is not one of the listed fuel types in subpart 227-2.4(a)(1), and the proposed emission limit for the very large boiler implements RACT; (2) the RACT analysis demonstrated that no additional control technologies beyond what are currently used at the power boiler are technically and economically feasible; and (3) compliance will be determined using CEMS and following the prescribed averaging times under subpart 227-2.6(b)(3)(i)(b). Further details explaining how EPA made these determinations is provided in the TSD available in the docket for this rulemaking.

Summary of RACT Controls

Six Low NOX Burner (LNB) assemblies (three levels with two burners on each level) are available in the power boiler for firing No. 6 oil or CNG. Normally, two burners are fired with CNG with additional burners fired with No. 6 oil as needed to meet the mill's steam demand. As a result of the 2011 NOX RACT determination, six Dynaswirl-LN LNB assemblies were installed. The burner design includes a tertiary air sleeve setup to allow increased flexibility for combustion staging and flame shaping. Overfire air improvements, an alternative control technology to enhance combustion and suppress NOX emissions, achieves the same level of NOX control in combination with LNB as LNB assemblies alone (approximately 8%). Since the Facility has already installed LNB assemblies on the power boiler to comply with the previous RACT determination, overfire air improvements were not considered in the RACT analysis.

In order to determine what NOX control technologies could be economically and technologically feasible for the power boiler, the EPA reviewed the Reasonably Available Control Technology/Best Available Control Technology/Lowest Achievable Emission Rate Clearinghouse (RBLC).⁵ The EPA's review of the RBLC reveals that thirteen similar paper and pulp U.S. facilities have NOX controls that the Facility either has already implemented or are not physically feasible based on the Facility's boiler configurations. Thirteen U.S. facilities with similar emission units and their respective NOX controls are identified for comparison in the TSD, and these facilities are located in Alabama, Florida, Louisiana, Maine, Michigan, North Carolina, Oregon, South Carolina, Washington, and Wisconsin. Based on the RBLC, the EPA confirms that no new NOX control technologies have become available that could be implemented on the Facility's boilers.

⁵ The RBLC contains case-specific information on the best available air pollution technologies that have been required to reduce the emission of air pollutants from stationary sources. See https://cfpub.epa.gov/rblc/index.cfm?action=Search.BasicSearch&lang=en.

Lime Kiln, Condition 78, Emission Unit R-CAUST

The Facility operates one lime kiln. The lime kiln's function is to calcine the lime mud into quicklime as a “process operation,” which is subject to federally approved RACT regulations under 6 NYCRR Part 212.

NYSDEC determined that the following emission limit implements RACT for the lime kiln: 120 parts per million by volume (wet, corrected to 10% O2). The lime kiln fires No. 6 fuel oil and/or CNG, with propane used for startup and process stabilization. With respect to monitoring requirements, emission testing to verify compliance with the limit will be performed once every five years as an arithmetic average of stack test runs. Further explanation on this testing is provided in the TSD available in the docket for this rulemaking.

A search of the RBLC indicated that the recommended NOX control method for lime kilns is to employ “good combustion controls.” Practically all the NOX generated from oil firing in kilns originates from the fuel. The lime kiln currently minimizes NOX formation through existing design and operation using good combustion practices.

EPA is proposing to determine that the proposed limit for the lime kiln implements RACT because: (1) The RACT analysis showed that no additional control technologies beyond what are currently used at the lime kiln are technically and economically feasible; and (2) emission testing to verify compliance with the limit will be performed once every five years as an arithmetic average of stack test runs. Further detail on this analysis is provided in the TSD available in the docket for this rulemaking.

Recovery Furnace, Condition 85, Emission Unit R-ECOVB

The Facility operates one recovery furnace that is an indirect water-walled steam generator used to recover inorganic chemicals from spent cooking liquors and to produce steam as a collateral benefit. That is its normal operation, and it is considered a “process operation,” subject to federally approved RACT regulations under 6 NYCRR Part 212.

NYSDEC determined that the following emission limit implements RACT for the recovery furnace: 100 parts per million by volume (dry, corrected to 8% O2). With respect to monitoring requirements, emission testing to verify compliance will be performed every five years as an arithmetic average of stack test runs. Further explanation on this testing is provided in the TSD available in the docket for this rulemaking.

The design of the recovery furnace minimizes NOX emissions through “staged air” combustion control, and any further combustion modifications would not reduce NOX emissions since NOX emissions are principally the result of fuel-bound nitrogen in the black liquor.

EPA is proposing to determine that the proposed limit for the recovery furnace implements RACT because: (1) The RACT analysis showed that no additional control technologies beyond what are currently used at the recovery furnace are technically and economically feasible; and (2) emission testing to verify compliance with the limit will be performed once every five years as an arithmetic average of stack test runs. Further detail on this analysis is provided in the TSD available in the docket for this rulemaking.

III. Environmental Justice Considerations

The State of New York did not evaluate environmental justice considerations as part of its SSSIP submittal. The EPA performed an environmental justice analysis solely for the purpose of providing additional context and transparency to the public. The CAA and applicable implementing regulations neither prohibit nor require an evaluation of environmental justice concerns. Thus, the analysis is not a basis of this action. The EPA created a Community Report (the Report) using Version 2.2 of its Environmental Justice Screening and Mapping tool EJ Screen (EJScreen). EJScreen is EPA's environmental justice mapping and screening tool that provides EPA with a nationally consistent dataset and approach for combining environmental and demographic socioeconomic indicators. EJScreen users choose a geographic area; the tool then provides demographic socioeconomic and environmental information for that area. It is important to understand that EJScreen in not a detailed risk analysis. It is a screening tool that examines some of the relevant issues related to environmental justice, and there is uncertainty in the date included. The Report is contained in the EPA docket assigned to this Federal Register document.

The Report addresses a 1-mile ring centered at the Facility. All thirteen EJ Screen environmental indexes are evaluated in the Report: (1) Particulate matter; (2) ozone; (3) diesel particulate matter; (4) air toxics cancer risks; (5) air toxics respiratory health index; (6) toxics releases to air; (7) traffic proximity; (8) lead paint; (9) superfund proximity; (10) risk management plan (RMP) facility proximity; (11) hazardous waste proximity; (12) underground storage tanks; and (13) wastewater discharge. Specific background and source information on these indexes and environmental indicators can be found in the EPA's “EJScreen Technical Documentation for Version 2.2.” ⁶ We analyze both EJ Indexes and Supplemental Indexes because they offer different perspectives on community level vulnerability based on different factors. The EPA used the National percentile instead of the State percentile for the Report results because this SSSIP action is a Federal action. Any environmental index result that is in the 80th percentile or greater is considered to be relatively high when comparing to the United States population. The “percentile” is what EJ Screen uses to compare the area of study to national and state figures.

⁶ EJ Screen, Environmental Justice Mapping and Screening Tool, EJ Screen Technical Documentation for Version 2.2. See https://www.epa.gov/system/files/documents/2023-06/ejscreen-tech-doc-version-2-2.pdf.

The results of the EPA's environmental justice analysis indicated that the population within a 1-mile radius of the Facility was below the 80th percentile for all National EJ Indexes and Supplemental Indexes. Refer to docket assigned to this Federal Register document for the complete Report results.

The EPA expects that finalizing this action is unlikely to result in potential disproportionate health, environmental, and economic impacts on disadvantaged communities in the area surrounding the Facility. This analysis was done solely for the purpose of providing additional context and information about this rulemaking to the public and is not a basis for the action. The EPA is taking action under the CAA and on bases independent of EJ.

IV. Proposed Action

The EPA is proposing that the current Source-specific SIP revision is approvable because the limits included in the SSSIP are demonstrated to implement RACT for the power boiler, lime kiln, and the recovery furnace. Based on a thorough RBLC review of similar sources, information provided by NYSDEC, and an analysis of this Source-specific SIP revision, the EPA proposes to approve Sylvamo Ticonderoga Mill's operation under NYSDEC approved NOX emission limits for the Facility's power boiler, lime kiln, and recovery furnace.

Specifically, the EPA proposes to approve the following limits and associated requirements as implementing RACT: (1) For the emission unit P-OWERH, very large power boiler, a limit of 0.23 lb NOX/MMBtu per 24-hour average (0.22 lb NOX/MMBtu per 30-day rolling average) during the ozone season May 1 through September 30, and 0.23 lb NOX/MMBtu per 30-day rolling average during the non-ozone season October 1 through April 30; (2) for the emission unit R-CAUST, lime kiln, a limit of 120 parts per million by volume (wet, corrected to 10% O2); and (3) for the emission unit R-ECOVB, recovery furnace, a limit of 100 parts per million by volume (dry, corrected to 8% O2).

V. Incorporation by Reference

In this document, the EPA is proposing to include regulatory text that includes incorporation by reference. In accordance with requirements of 1 CFR 51.5, the EPA is proposing to incorporate by reference revisions to Sylvamo Ticonderoga Mill title V operating permit conditions 52, 78, and 85 as described in section II. of this preamble. The EPA has made, and will continue to make, these materials generally available through www.regulations.gov and at the EPA Region 2 Office (please contact the person identified in the FOR FURTHER INFORMATION CONTACT section of this preamble for more information).

VI. Statutory and Executive Order Reviews

Under the CAA, the Administrator is required to approve a SIP submission that complies with the provisions of the CAA and applicable Federal regulations. 42 U.S.C. 7410(k); 40 CFR 52.02(a). Thus, in reviewing SIP submissions, the EPA's role is to approve State choices, provided that they meet the criteria of the CAA. Accordingly, this action merely approves State law as meeting Federal requirements and does not impose additional requirements beyond those imposed by State law. For that reason, this proposed action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because this action does not involve technical standards.

In addition, the SIP is not proposing to apply on any Indian reservation land or in any other area where the EPA or an Indian Tribe has demonstrated that a Tribe has jurisdiction. In those areas of Indian country, the rule does not have Tribal implications and it will not impose substantial direct costs on Tribal governments or preempt Tribal law as specified by Executive Order 13175 (65 FR 67249, November 9, 2000).

Executive Order 12898 (Federal Actions to Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.” resulting from the negative environmental consequences of industrial, governmental, and commercial operations or programs and policies.”

The New York State Department of Environmental Conservation did not evaluate environmental justice considerations as part of its SSSIP submittal; the CAA and applicable implementing regulations neither prohibit nor require such an evaluation. The EPA performed an environmental justice analysis, as is described above in the section titled, “Environmental Justice Considerations.” The analysis was done for the purpose of providing additional context and information about this rulemaking to the public, not as a basis of the action. In addition, there is no information in the record upon which this decision is based inconsistent with the stated goal of E.O. 12898 of achieving environmental justice for people of color, low-income populations, and Indigenous peoples.

List of Subjects 40 CFR Part 52

Environmental protection, Air pollution control, Incorporation by reference, Intergovernmental relations, Oxides of nitrogen, Ozone, Reporting and recordkeeping requirements.

Authority: 42 U.S.C. 7401 et seq.

Lisa Garcia,
Regional Administrator, Region 2.

[FR Doc. 2024-11338 Filed 5-22-24; 8:45 am]

BILLING CODE 6560-50-P